DEPARTMENT OF TRANSPORTATION

Federal Railroad Administration

Notice of Funding Opportunity for the Restoration and Enhancement Grants Program

AGENCY: Federal Railroad Administration (FRA), Department of Transportation (DOT).

ACTION: Notice of funding opportunity (NOFO or notice).

SUMMARY: This notice details the application requirements and procedures to obtain grant funding for eligible projects under the Restoration and Enhancement (R&E) Grants Program. This notice makes available R&E Grants Program funding provided by the Consolidated Appropriations Act, 2018 (2018 Appropriation) and the Consolidated Appropriations Act, 2019 (2019 Appropriation), as well as available funding remaining from the Consolidated Appropriations Act, 2017 (2017 Appropriation). The opportunities described in this notice are made available under Catalog of Federal Domestic Assistance (CFDA) number 20.324, “Restoration and Enhancement.”

DATES: Applications for funding under this solicitation are due no later than 5:00 p.m. EDT January 6, 2020. Applications for funding, or supplemental material in support of an application, received after 5:00 p.m. EDT on January 6, 2020 will not be considered for funding. Incomplete applications will not be considered for funding. See Section D of this notice for additional information on the application process.

ADDRESSES: Applications must be submitted via www.Grants.gov. Only applicants who comply with all submission requirements described in this notice and submit applications through www.Grants.gov will be eligible for award. For any supporting application materials that an applicant is unable to submit via www.Grants.gov, an applicant may submit an original and two (2) copies to Amy Houser, Office of Program Delivery, Federal Railroad Administration, 1200 New Jersey Avenue SE, Room W36-412, Washington, DC 20590. However, due to delays caused by enhanced screening of mail delivered via the U.S. Postal Service, applicants are advised to use other means of conveyance (such as courier service) to assure timely receipt of materials before the application deadline.

FOR FURTHER INFORMATION CONTACT: For further information regarding the R&E Grant Program, please contact Ruthie Americus, Office of Policy and Planning, Federal Railroad Administration, 1200 New Jersey Avenue SE, Room W36-403, Washington, DC 20590; email: ruthie.americus@dot.gov; phone: 202-493-0431. Grant application submission and processing questions should be addressed to Amy Houser, Office of Program Delivery, Federal Railroad Administration, 1200 New Jersey Avenue SE, Room W36-412, Washington, DC 20590; email: amy.houser@dot.gov; phone: 202-493-0303.

SUPPLEMENTARY INFORMATION: Notice to applicants: FRA recommends that applicants read this notice in its entirety prior to preparing application materials. The term “grant” is used throughout this document and is intended to reference funding awarded through a grant agreement, as well as funding awarded through a cooperative agreement. Definitions of key terms used throughout the NOFO are provided in Section A(2) below. These key terms are capitalized throughout the NOFO. There are several administrative prerequisites and eligibility requirements described herein with which applicants must comply. Additionally, applicants should note that the required Project Narrative component of the application package may not exceed 25 pages in length.

Table of Contents

A. Program Description

B. Federal Award Information

C. Eligibility Information

D. Application and Submission Information

E. Application Review Information

F. Federal Award Administration Information

G. Federal Awarding Agency Contacts

H. Other Information

A. Program Description

1. Overview

The purpose of this notice is to solicit applications for Operating Assistance grants for Initiating, Restoring, or Enhancing Intercity Rail Passenger Transportation authorized in Sections 11104 and 11303 of the Fixing America's Surface Transportation (FAST) Act, Public Law 114-94 (2015); now codified at 49 U.S.C. 22908 ¹ and funded in the 2018 and 2019 Appropriations Acts. FRA will consider applications consistent with the priorities in 49 U.S.C. 22908(d).

¹ The Department of Transportation Reports Harmonization Act, Public Law 115-420, sec. 7 (2019) transferred this section from its location at 49 U.S.C. 24408 to 49 U.S.C. 22908.

2. Definitions of Key Terms

a. “Enhancing” or “Enhance” means upgrading or modifying the service currently offered on a route or train. Examples may include Operating Costs associated with, but not limited to, adding a station stop, increasing frequency of a train (e.g., tri-weekly to daily train service or increasing daily train service frequencies), or modifying on-board services offered on the train (e.g., food or sleeping accommodations).

b. “Initiating” or “Initiate” means commencing service on a route that did not previously operate Intercity Rail Passenger Transportation.

c. “Intercity Rail Passenger Transportation” means rail passenger transportation, except commuter rail passenger transportation. See 49 U.S.C. 22901(3). In this notice, “Intercity Passenger Rail Service” and “Intercity Passenger Rail Transportation” are equivalent terms to “Intercity Rail Passenger Transportation.”

d. “Net Operating Costs” are defined as operating expenses incurred minus operating revenue for an Intercity Rail Passenger Transportation route.

e. “Operating Assistance” refers to financial assistance covering allowable Operating Costs.

f. “Operating Costs” means expenses associated with the operation of Intercity Rail Passenger Transportation. Examples of such expenses may include: Staffing costs for train engineers, conductors, and on-board service crew; diesel fuel or electricity costs associated with train propulsion power; station costs such as ticket sales, customer information, and train dispatching services; station building utility and maintenance costs; lease payments on rolling stock; routine planned maintenance costs of equipment and train cleaning; host railroad access costs; train yard operation costs; general and administrative costs; and management, marketing, sales and reservations costs.

g. “Rail Carrier” means a person providing common carrier railroad transportation for compensation, but does not include street, suburban, or interurban electric railways not operated as part of the general system of rail transportation. See 49 U.S.C. 10102(5).

h. “Restoring” or “Restore” means reinstating service to a route that formerly operated Intercity Rail Passenger Transportation.

B. Federal Award Information

1. Available Award Amount

The total funding available for awards under this NOFO is $24,419,000. Should additional R&E funds become available after the release of this NOFO, FRA may elect to award such funds to applications received under this NOFO.

Of the $25,000,000 made available for R&E in the 2018 and 2019 Appropriations, $23,982,500 is available for grants; $767,500 is set aside for Special Transportation Circumstances ² as required under 49 U.S.C. 22907(l); and FRA will set aside $250,000 for award and program oversight. Of the $5,000,000 made available for R&E in the 2017 Appropriation, awards and set-asides were previously determined and $436,500 remains available under this NOFO.

² The Special Transportation Circumstances funds will be announced under a separate NOFO(s).

2. Award Limits

The R&E grants may not provide funding for more than three years for any individual Intercity Rail Passenger Transportation route and may not be renewed. Applicants can apply to use R&E funding for: (a) Multiple (up to the first three) years of service or (b) only one year of service, provided the service has not already received three years of R&E funding. Grantees receiving less than three years of funding for any individual Intercity Rail Passenger Transportation route under this NOFO and/or previous R&E NOFOs may apply for R&E Operating Assistance under future NOFOs if available. In addition, no more than six R&E grants may be active simultaneously, but an applicant may be awarded more than one grant.

3. Award Size

There are no predetermined minimum or maximum dollar thresholds for awards. FRA will only make a maximum of six simultaneous awards with all available R&E program funding. Given the limited amount of funding currently available, applicants are encouraged to identify scalable project elements. FRA may select a project for funding that is less than the total amount requested in the application.

FRA strongly encourages applicants to identify and include other state, local, public, and private funding to support the proposed project in order to maximize competitiveness. A recipient of an R&E grant may use the grant funding in combination with other Federal grants that would benefit the applicable rail service.

4. Award Type

FRA will make awards for projects selected under this notice through grant agreements or cooperative agreements. Grant agreements are used when FRA does not expect to have substantial Federal involvement in carrying out the funded activity. Cooperative agreements allow for substantial involvement in carrying out the funded activity, including technical assistance, and increased program oversight under 2 CFR 200.24.

The funding provided under this NOFO will be made available to grantees on a reimbursable basis. Applicants must certify that their expenditures are allowable, allocable, reasonable, and necessary to the approved project before seeking reimbursement from FRA. Additionally, the grantee is expected to expend matching funds at the required percentage concurrent with Federal funds throughout the life of the project. FRA may award grants in installments, and may terminate any grant or cooperative agreement upon the cessation of service or the violation of any other term of the grant. See an example of standard terms and conditions for FRA grant awards at: https://www.fra.dot.gov/eLib/Details/L19057.

C. Eligibility Information

This section of the notice explains applicant eligibility, cost sharing and matching requirements, and project eligibility. Applications that do not meet the requirements in this section will be ineligible for funding. Instructions for submitting eligibility information to FRA are detailed in Section D of this NOFO.

1. Eligible Applicants

The following entities are eligible applicants for all projects permitted under this notice:

(1) A State (including the District of Columbia);

(2) A group of States;

(3) An Interstate Compact;

(4) A public agency or publicly chartered authority established by one or more States; ³

³ See Section D(2)(a)(iv) for supporting documentation required to demonstrate eligibility under this eligibility category.

(5) A political subdivision of a State;

(6) Amtrak or another Rail Carrier that provides Intercity Rail Passenger Transportation;

(7) Any Rail Carrier in partnership with at least one of the entities described in paragraphs (1) through (5); ⁴ and

⁴ See Section D(2)(a)(iv) for supporting information required to demonstrate eligibility under this eligibility category.

(8) Any combination of the entities described in paragraph (1) through (7).

Applications must identify an eligible applicant as the lead applicant. The lead applicant serves as the primary point of contact for the application, and if selected, as the recipient of the R&E Program grant award. Eligible applicants may reference entities that are not eligible applicants in an application as a project partner.

2. Cost Sharing or Matching

Grants for a project funded under the R&E program shall not exceed 80 percent of the projected Net Operating Costs for the first year of service; 60 percent of the Net Operating Costs for the second year of service; and 40 percent of the projected Net Operating Costs for the third year of service. The matching funds for the projected Net Operating Costs not covered by the R&E grant may be comprised of eligible public sector funding (e.g., state, local, or other federal funding) or private sector funding. FRA encourages applicants to broaden their funding table in applications.

FRA will give preference to non-federal shares consisting of funding from multiple sources (e.g., a state, county, railroad) that demonstrate broad participation and cost sharing from affected stakeholders. FRA will give priority to applications proposing a lower R&E grant share of projected Net Operating Costs than stated above, as further discussed in Section E(1). Applicants must identify the source(s) of their matching funds for the R&E grant associated with the service, and must clearly and distinctly reflect these funds in the application budget.

FRA will not consider funds already expended (or otherwise encumbered) that do not comply with 2 CFR 200.458 toward the matching funds requirement. Additionally, only cash contributions will be counted toward the matching funds requirements. Before submitting an application, applicants should carefully review the principles for cost sharing or matching in 2 CFR 200.306.

A recipient of an operating assistance grant under this NOFO may use that grant in combination with other Federal grants awarded that would benefit the applicable service.

3. Project Eligibility

Projects eligible for funding under this NOFO must be projects within the United States and be for Operating Assistance to Initiate, Restore, or Enhance Intercity Rail Passenger Transportation. FRA will give priority to proposed projects in applications that:

a. Show completed or nearly completed planning, design, environmental reviews, negotiation of agreements, acquisition of equipment, construction, and other actions necessary for Initiation, Restoration, or Enhancement of Intercity Rail Passenger Transportation;

b. Restore service over routes formerly operated by Amtrak, including routes in the Gulf Coast region between New Orleans, Louisiana, and Orlando, Florida as described in Section 11304 of the Passenger Rail Reform and Investment Act of 2015;

c. Provide daily or daytime service over routes where such service did not previously exist;

d. Include funding or other significant participation by State, local, and regional governmental and private entities;

e. Include a funding plan that demonstrates the Intercity Rail Passenger Service will be financially sustainable beyond the three-year grant period;

f. Provide service to regions and communities that are underserved or not served by other intercity public transportation;

g. Foster economic development, particularly in rural communities and for disadvantaged populations;

h. Provide other non-transportation benefits, such as livability benefits; and

i. Enhance connectivity and geographic coverage of the existing national network of Intercity Rail Passenger Service.

For a project that uses rights-of-way owned by a railroad, 49 U.S.C. 22905(c)(1) requires that a written agreement exist between the applicant and the owning railroad regarding use and ownership. This requirement is a condition to making a grant under the R&E Program.

D. Application and Submission Information

Required documents for the application are outlined in the following paragraphs. Applicants must complete and submit all components of the application. See Section D(2) for the application checklist. FRA welcomes the submission of additional relevant supporting documentation, such as host railroad agreements, Amtrak/operator agreements, and funding commitment documentation. The additional relevant supporting documentation will not count against the Project Narrative page limit.

1. Address To Request Application Package

Applicants must submit all application materials in their entirety through http://www.Grants.gov no later than 5:00 p.m. EDT, on January 6, 2020. FRA reserves the right to modify this deadline. General information for submitting applications through Grants.gov can be found at: https://www.fra.dot.gov/Page/P0270.

For any supporting application materials that an applicant cannot submit via Grants.gov, an applicant may submit an original and two (2) copies to Amy Houser, Office of Program Delivery, Federal Railroad Administration, 1200 New Jersey Avenue SE, Room W36-412, Washington, DC 20590. Due to delays caused by enhanced screening of mail delivered via the U.S. Postal Service, FRA advises applicants to use other means of conveyance (such as courier service) to assure timely receipt of materials before the application deadline. Additionally, if documents can be obtained online, providing instructions to FRA on how to access files on a referenced website may also be sufficient.

2. Content and Form of Application Submission

FRA strongly advises applicants to read this section carefully. Applicants must submit all required information and components of the application package to be considered for funding.

Required documents for an application package are outlined in the checklist below.

• Project Narrative (see D.2.a)

• Statement of Work (see D.2.b.i)

• Capital and mobilization plan (see D.2.b.ii)

• Operating plan (see D.2.b.iii)

• Funding plan (see D.2.b.iv)

• Status of negotiations and agreements (see D.2.b.v)

• SF424—Application for Federal Assistance

• SF 424A—Budget Information for Non-Construction

• SF 424B—Assurances for Non-Construction

• FRA's Additional Assurances and Certifications

• SF LLL—Disclosure of Lobbying Activities

a. Project Narrative

This section describes the minimum content required in the Project Narrative of the grant application. The Project Narrative must follow the basic outline below to address the program requirements and assist evaluators in locating relevant information.

I. Cover Page | See D.2.a.i.
II. Project Summary | See D.2.a.ii.
III. Project Funding Summary | See D.2.a.iii.
IV. Applicant Eligibility Criteria | See D.2.a.iv.
V. Project Eligibility Criteria | See D.2.a.v.
VI. Detailed Project Description | See D.2.a.vi.
VII. Project Location | See D.2.a.vii.
VIII. Evaluation and Selection Criteria | See D.2.a.viii.
IX. Project Implementation and Management | See D.2.a.ix.
X. Project Readiness | See D.2.a.x.

The above content must be provided in a narrative statement submitted by the applicant. The Project Narrative may not exceed 25 pages in length (excluding cover pages, table of contents, and supporting documentation). FRA will not review or consider Project Narratives beyond the 25-page limitation. If possible, applicants should submit supporting documents via website links rather than hard copies. If supporting documents are submitted, applicants must clearly identify the page number of the relevant portion of the supporting documentation in the Project Narrative. The Project Narrative must adhere to the following outline.

i. Cover Page: Include a cover page that lists the following elements in a table:

Project title |
Lead Applicant
City(ies), State(s), Congressional District(s) where the project is located
Projected Total Operating Costs for the funded service (by year)
Projected Operating Revenue for the funded service (by year)
Projected Net Operating Costs for the funded service (by year)
R&E Funding Requested (by year)
Match for Remaining Net Operating Costs Not Provided by R&E Funding (by year)

ii. Project Summary: Provide a brief 4-6 sentence summary of the proposed project and what the project will entail. Include challenges the proposed project aims to address, and summarize the intended outcomes and anticipated benefits that will result from the proposed project.

iii. Project Funding Summary: Indicate the annual amount of R&E funding requested, the year or years of service operations for which the funding is requested, the match for the remaining Net Operating Costs not provided by R&E funding, and the annual projected Net Operating Costs for each of the first three years of operation. Identify the source(s) of matching funds, and clearly and distinctly reflect these funds as part of the total projected Net Operating Cost in the application budget. Additionally, identify any other sources of Federal funds committed to the project and any pending Federal requests. Also, note if the requested Federal funding under R&E or other programs must be obligated or spent by a certain date due to dependencies or relationships with other Federal or non-Federal funding sources, related projects, law, or other factors. Additionally, specify whether Federal funding for the project has previously been sought, and identify the Federal program and fiscal year of the funding request(s). Rail Carriers other than Amtrak should state whether they will require access to Amtrak's reservation system, stations, or facilities because they are directly related to the Rail Carrier's operations, and whether they expect the FRA to award a portion of the requested R&E grant to Amtrak for such access (and in what amount).⁵ Provide information about any requests submitted to other programs for capital funding related to this project that supports the project's Initiation, Restoration, or Enhancement of the Intercity Rail Passenger Service.

iv. Example Project Funding Table:

Year of operations | Year 1 | Year 2 | Year 3
FY17 R&E Federal Funds Previously Secured
FY17 Non-Federal Funding/Match
FY18-FY19 R&E Federal Funding Request
FY18-FY19 Non-Federal Funding/Match

v. Applicant Eligibility Criteria: Explain how the applicant meets the applicant eligibility criteria outlined in Section C of this notice. For public agencies and publicly chartered authorities established by one or more states, the explanation must include citations to the applicable enabling legislation. If the applicant is eligible under 49 U.S.C. 22908(a)(7) as a Rail Carrier in partnership with at least one of the other eligible entities, the applicant should explain the partnership and each entity's contribution to the partnership.

vi. Project Eligibility Criteria: Explain how the project meets the project eligibility criteria in Section C(3) of this notice.

vii. Detailed Project Description: Include a detailed project description that expands upon the brief summary required above and cites with page number references to information included in documents responsive to Subsections D(2)(b)(ii-v). This detailed description should provide, at a minimum: The specific components and elements of the project, including service frequency; name and description of the planned routes and schedules; station facilities; equipment that will be used and how it will be acquired or refurbished (if necessary); where equipment will be maintained and by what entity; additional background on the challenges the project aims to address; the expected users and beneficiaries of the project; projected ridership, revenues and costs; all railroads owning tracks to be used; service providers or entities expected to provide services or facilities that will be used, including access to Amtrak systems, stations, and facilities; train operators and their qualifications; plan for ensuring safe operations; and any other information the applicant deems necessary to justify the proposed project. An applicant must specify whether it is seeking funding for a project that has already received Federal financial assistance, and if applicable, explain how the new scope proposed to be funded under this NOFO relates to the previous scope.

viii. Project Location: Include geospatial data for the project, as well as a map of the project's location. Include the Congressional districts in which the project will take place.

ix. Evaluation and Selection Criteria: Include a thorough discussion of how the proposed project meets all of the evaluation and selection criteria, as outlined in Section E of this notice. If an application does not sufficiently address the evaluation criteria and the selection criteria, it is unlikely to be a competitive application. For the life-cycle cost selection criteria, applicants should demonstrate a credible plan to maintain related capital project assets without having to rely on Federal funding.

x. Project Implementation and Management: Describe proposed project implementation and project management arrangements. Include descriptions of the expected arrangements for project contracting, contract oversight, change-order management, risk management, and conformance to Federal requirements for project progress reporting.

xi. Project Readiness: Provide a summary of the: Capital and mobilization plan including any capital investments; service planning actions; mobilization actions (such as qualification of train crews); and timeline for undertaking and completing each of the investments. Describe the appropriate planning, design, any environmental reviews, negotiation of agreements, acquisition of equipment, construction, and other actions necessary for Initiation, Restoration, and Enhancement of service that have been completed or remain necessary for completion. Provide the date when the first year of rail service will commence or when Enhancements to existing service will be placed into service.

b. Additional Application Elements

Applicants must submit:

⁵ The Secretary, acting through the FRA, is permitted in 49 U.S.C. 22908(h) to award an appropriate portion of R&E grants under this NOFO to Amtrak as compensation for permitting certain access.

i. A Statement of Work (SOW) addressing the scope, schedule, and budget for the proposed project if it were selected for award. The SOW must contain sufficient detail so FRA, and the applicant, can understand the expected outcomes of the proposed work to be performed and can monitor progress toward completing project tasks and deliverables during a prospective grant's period of performance. Applicants must use FRA's standard SOW, schedule, and budget templates to be considered for award. The templates are located at https://www.fra.dot.gov/Page/P0325. When preparing the budget, the total Net Operating Cost of a project must be based on the best available information as indicated in cited references. The project schedule should be sufficiently detailed to include the date when the first year of service will commence (or when the proposed Enhancement will be placed into service), as well as reasonable due dates for expenses associated with the operation of the Intercity Rail Passenger Transportation.

ii. Capital and mobilization plan that includes:

(A) A description of any capital investments, service planning actions (such as environmental reviews), and mobilization actions (such as qualifications of train crews) required for Initiation of the Intercity Rail Passenger Transportation; and

(B) A timeline for undertaking and completing each of the investments and actions referred to in subparagraph (A).

iii. Operating plan describing:

(A) Planned service operation;

(B) Identity and qualifications of the train operator;

(C) Identity and qualifications of any other service providers (e.g., on-board service, equipment maintenance, station staff);

(D) Service frequency;

(E) Planned routes and schedules;

(F) Station facilities that will be utilized;

(G) Projected ridership, revenues, and costs;

(H) Descriptions of how the projections under subparagraph (G) were developed;

(I) Equipment that will be utilized, how such equipment will be acquired or refurbished (if necessary), and where such equipment will be maintained; and

(J) A plan for ensuring safe operations and compliance with applicable safety regulations;

iv. Funding plan that:

(A) Describes the funding of initial capital costs and Operating Costs for the first three years of operation;

(B) Includes commitment by the applicant to provide the funds described in subparagraph (A) to the extent not covered by Federal grants and revenues; and

(C) Describes the funding of Operating Costs and capital costs, to the extent necessary, after the first three years of operation.

v. Status of negotiations and agreements with:

(A) Each of the railroads or regional transportation authorities whose tracks or facilities would be utilized by the service;

(B) The anticipated railroad carrier, if such entity is not part of the applicant group; and

(C) Any other service providers or entities expected to provide services or facilities that will be used by the service, including any required access to Amtrak systems, stations, and facilities if Amtrak is not part of the applicant group.

vi. SF424—Application for Federal Assistance

vii. SF 424A—Budget Information for Non-Construction

viii. SF 424B—Assurances for Non-Construction

ix. FRA's Additional Assurances and Certifications; and

x. SF LLL—Disclosure of Lobbying Activities.

Forms needed for the electronic application process are at www.Grants.gov.

c. Post-Selection Requirements

See Section F(2) for post-selection requirements.

1. Unique Entity Identifier, System for Award Management (SAM), and Submission Instructions

To apply for funding through Grants.gov, applicants must be properly registered in SAM before submitting its application, provide a valid unique entity identifier in its application, and continue to maintain an active SAM registration all as described in detail below. Complete instructions on how to register and submit an application can be found at www.Grants.gov. Registering with Grants.gov is a one-time process; however, it can take up to several weeks for first-time registrants to receive confirmation and a user password. FRA recommends that applicants start the registration process as early as possible to prevent delays that may preclude submitting an application package by the application deadline. Applications will not be accepted after the due date. Delayed registration is not an acceptable justification for an application extension.

FRA may not make a grant award to an applicant until the applicant has complied with all applicable Data Universal Numbering System (DUNS) and SAM requirements, and if an applicant has not fully complied with the requirements by the time the Federal awarding agency is ready to make a Federal award, the Federal awarding agency may determine that the applicant is not qualified to receive a Federal award and use that determination as a basis for making a Federal award to another applicant. (Please note that if a Dun & Bradstreet DUNS number must be obtained or renewed, this may take a significant amount of time to complete.) Late applications that are the result of failure to register or comply with Grants.gov applicant requirements in a timely manner will not be considered. If an applicant has not fully complied with the requirements by the submission deadline, the application will not be considered. To submit an application through Grants.gov, applicants must:

a. Obtain a DUNS Number

A DUNS number is required for Grants.gov registration. The Office of Management and Budget requires that all businesses and nonprofit applicants for Federal funds include a DUNS number in their applications for a new award or renewal of an existing award. A DUNS number is a unique nine-digit sequence recognized as the universal standard for the government in identifying and keeping track of entities receiving Federal funds. The identifier is used for tracking purposes and to validate address and point of contact information for Federal assistance applicants, recipients, and subrecipients. The DUNS number will be used throughout the grant life cycle. Obtaining a DUNS number is a free, one-time activity. Applicants may obtain a DUNS number by calling 1-866-705-5711 or by applying online at http://www.dnb.com/us.

b. Register With the SAM at www.SAM.gov

All applicants for Federal financial assistance must maintain current registrations in the SAM database. An applicant must be registered in SAM to successfully register in Grants.gov. The SAM database is the repository for standard information about Federal financial assistance applicants, recipients, and subrecipients. Organizations that have previously submitted applications via Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award. Information about SAM registration procedures is available at www.sam.gov.

c. Create a Grants.gov Username and Password

Applicants must complete an Authorized Organization Representative (AOR) profile on www.Grants.gov and create a username and password. Applicants must use the organization's DUNS number to complete this step. Additional information about the registration process is available at: https://www.grants.gov/web/grants/applicants/organization-registration.html.

d. Acquire Authorization for Your AOR From the E-Business Point of Contact (E-Biz POC)

The E-Biz POC at the applicant's organization must respond to the registration email from Grants.gov and login at www.Grants.gov to authorize the applicant as the AOR. Please note there can be more than one AOR for an organization.

e. Submit an Application Addressing All Requirements Outlined in This NOFO

If an applicant experiences difficulties at any point during this process, please call the Grants.gov Customer Center Hotline at 1-800-518-4726, 24 hours a day, 7 days a week (closed on Federal holidays). For information and instructions on each of these processes, please see instructions at: http://www.grants.gov/web/grants/applicants/apply-for-grants.html.

Note: Please use generally accepted formats such as .pdf, .doc, .docx, .xls, .xlsx and .ppt, when uploading attachments. While applicants may embed picture files, such as .jpg, .gif, and .bmp, in document files, applicants should not submit attachments in these formats. Additionally, the following formats will not be accepted: .com, .bat, .exe, .vbs, .cfg, .dat, .db, .dbf, .dll, .ini, .log, .ora, .sys, and .zip.

2. Submission Dates and Times

Applicants must submit complete applications to www.Grants.gov no later than 5:00 p.m. EDT, January 6, 2020. Applicants will receive a system-generated acknowledgement of receipt. FRA reviews www.Grants.gov information on the dates/and times of applications submitted to determine timeliness of submissions. Late applications will be neither reviewed nor considered. Delayed registration is not an acceptable reason for late submission. FRA strongly encourages applicants to apply early to ensure that all materials are received before this deadline.

To ensure a fair competition of limited discretionary funds, the following conditions are not valid reasons to permit late submissions: (1) Failure to complete the registration process before the deadline; (2) failure to follow Grants.gov instructions on how to register and apply as posted on its website; (3) failure to follow all instructions in this NOFO; and (4) technical issues experienced with the applicant's computer or information technology environment.

3. Intergovernmental Review

Executive Order 12372 requires applicants from state and local units of government or other organizations providing services within a state to submit a copy of the application to the State Single Point of Contact (SPOC), if one exists, and if this program has been selected for review by the state. Applicants must contact their State SPOC to determine if the program has been selected for state review.

4. Funding Restrictions

R&E grants awarded for any individual Intercity Rail Passenger Transportation route will not receive funding for more than three years and may not be renewed. No more than six Operating Assistance grant awards will be simultaneously active under the R&E Grants Program. FRA will approve pre-award costs consistent with 2 CFR 200.458, as applicable. Under 2 CFR 200.458, grant recipients must seek written approval from FRA for pre-award activities to be eligible for reimbursement. Activities initiated prior to the execution of an agreement without FRA's written approval may not be eligible for reimbursement or included as a grantee's matching contribution. For Enhancement projects, FRA will only fund the portion of the Operating Costs associated with the Enhancement.

FRA is limited to funding a percentage of projected Net Operating Costs and may not fund any service producing net operating profits.

5. Other Submission Requirements

If an applicant experiences difficulties at any point during this process, please call the Grants.gov Customer Center Hotline at 1-800-518-4726, 24 hours a day, 7 days a week (closed on Federal holidays). For information and instructions on each of these processes, please see instructions at: http://www.grants.gov/web/grants/applicants/apply-for-grants.html. See Section D.1 for submission of applications via postal mail, electronic mail or hand delivery.

E. Application Review Information

1. Criteria

a. Eligibility and Completeness Review

FRA will first screen each application for eligibility (eligibility requirements are outlined in Section C of this notice), completeness (application documentation and submission requirements are outlined in Section D of this notice) and the minimum match.

b. Evaluation Criteria

FRA subject-matter experts will evaluate all eligible and complete applications using the evaluation criteria outlined in this section to determine technical merit and public benefits consistent with the priorities in 49 U.S.C. 22908(d).

i. Technical Merit: FRA will evaluate application information for the degree to which—

(A) The tasks and subtasks outlined in the SOW are appropriate to achieve the expected outcomes of the proposed project.

(B) The application is thorough and responsive to all the requirements outlined in this notice, including the strength and comprehensiveness of the capital and mobilization plan, operating plan, funding plan, and status of negotiations and agreements described in Section D(2)(b). In particular, the funding plan demonstrates the Intercity Rail Passenger Service will be financially sustainable beyond the 3-year grant period.

(C) The appropriate planning, design, any environmental reviews, negotiation of agreements, acquisition of equipment, construction, and other actions necessary for Initiation, Restoration, or Enhancement of service have been completed or nearly completed.

(D) Service is restored over routes formerly operated by Amtrak, including routes in the Gulf Coast region between New Orleans, Louisiana, and Orlando, Florida as described in Section 11304 of the Passenger Rail Reform and Investment Act of 2015.

(E) The appropriate funding or other significant participation by State, local, and regional governmental and private entities are in place.

ii. Benefits:

FRA will evaluate the proposed rail service on:

(A) Providing daily or daytime service over routes where such service did not previously exist;

(B) Providing service to regions and communities that are underserved or not served by other intercity public transportation;

(C) Fostering economic development, particularly in rural communities and for disadvantaged populations;

(D) Providing other non-transportation benefits; and

(E) Enhancing connectivity and geographic coverage of the existing national network of Intercity Rail Passenger Service.

c. Selection Criteria

In addition to the eligibility and completeness review and the evaluation criteria outlined in this subsection, the FRA Administrator (or his designee) will select projects in consultation with a senior review team, which includes senior leadership from the Office of the Secretary and FRA, applying the following selection criteria:

i. The FRA will give preference to projects for which the:

(A) Proposed matching funds exceed the annual minimum required amounts specified in Section C(2); and

(B) Proposed matching funds are from more than one source, including private sources, demonstrating broad participation by affected stakeholders; and

ii. The FRA will also take into account the following key Departmental objectives:

(A) Supporting economic vitality at the national and regional level;

(B) Leveraging Federal funding to attract other, non-Federal sources of infrastructure investment;

(C) Preparing for future operations and maintenance costs associated with their project's life-cycle, as demonstrated by a credible plan to maintain assets without having to rely on future Federal funding;

(D) Using innovative approaches to improve safety and expedite project delivery; and,

(E) Holding grant recipients accountable for their performance and achieving specific, measurable outcomes identified by grant applicants.

iii. In determining the allocation of program funds, FRA may also consider geographic diversity, diversity in the size of the systems receiving funding, the applicant's receipt of other competitive awards, and projects located in or that support transportation service in a qualified opportunity zone designated pursuant to 26 U.S.C. 1400Z-1.

2. Review and Selection Process

FRA will conduct a four-part application review process, as follows:

a. Screen applications for completeness and eligibility;

b. Evaluate eligible applications (completed by technical panels applying the evaluation criteria);

c. Review and recommend initial selection of projects for the FRA Administrator's review by a non-career Senior Review Team, which includes senior leadership from the Office of the Secretary and FRA; and

d. Selection of awards by the FRA Administrator for the Secretary's review and approval.

3. Reporting Matters Related to Integrity and Performance

Before making a Federal award with a total amount of Federal share greater than the simplified acquisition threshold of $150,000 (see 2 CFR 200.88 Simplified Acquisition Threshold), FRA will review and consider any information about the applicant that is in the designated integrity and performance system accessible through SAM (currently the Federal Awardee Performance and Integrity Information System (FAPIIS)). See 41 U.S.C. 2313.

An applicant, at its option, may review information in the designated integrity and performance systems accessible through SAM and comment on any information about itself that a Federal awarding agency previously entered and is currently in the designated integrity and performance system accessible through SAM.

FRA will consider any comments by the applicant, in addition to the other information in the designated integrity and performance system, in making a judgment about the applicant's integrity, business ethics, and record of performance under Federal awards when completing the review of risk posed by applicants as described in 2 CFR 200.205.

F. Federal Award Administration Information

1. Federal Award Notice

FRA will announce applications selected for funding in a press release and on the FRA website after the application review period. FRA will contact applicants with successful applications after announcement with information and instructions about the award process. This notification is not an authorization to begin proposed project activities. FRA requires satisfaction of applicable requirements by the applicant and a formal agreement signed by both the grantee and the FRA, including an approved scope, schedule, and budget, before obligation.

2. Administrative and National Policy Requirements

For projects on a State-Supported route (as defined in 49 U.S.C. 24102(13)), grant recipients must be in compliance with the cost allocation methodology required under Section 209 of the Passenger Rail Investment and Improvement Act of 2008 (Pub. L. 110-432) with respect to that route. Selected grantees must maintain compliance with the cost allocation methodology for the duration of the service.

In connection with any program or activity conducted with or benefiting from funds awarded under this notice, recipients of funds must comply with all applicable requirements of Federal law, including, without limitation, the Constitution of the United States; the conditions of performance, nondiscrimination requirements, and other assurances made applicable to the award of funds in accordance with regulations of the Department of Transportation; and applicable Federal financial assistance and contracting principles promulgated by the Office of Management and Budget. In complying with these requirements, recipients, in particular, must ensure that no concession agreements are denied or other contracting decisions made on the basis of speech or other activities protected by the First Amendment. If the Department determines that a recipient has failed to comply with applicable Federal requirements, the Department may terminate the award of funds and disallow previously incurred costs, requiring the recipient to reimburse any expended award funds.

Examples of administrative and national policy requirements include: 2 CFR part 200; procurement standards; compliance with Federal civil rights laws and regulations; requirements for disadvantaged business enterprises; debarment and suspension requirements; and drug-free workplace; FRA's and OMB's Assurances and Certifications; Americans with Disabilities Act; safety requirements; NEPA; environmental justice requirements; performance measures; grant conditions under 49 U.S.C. 22905, including the Buy America requirements, the provision deeming operators rail carriers for certain purposes and grantee agreements with railroad right-of-way owners for projects using railroad right-of-way.

See an example of standard terms and conditions for FRA grant awards at https://www.fra.dot.gov/eLib/Details/L19057.

3. Reporting

a. Progress Reporting on Grant Activity

Each applicant selected for a grant will be required to comply with all standard FRA reporting requirements, including quarterly progress reports, quarterly Federal financial reports, and interim and final performance reports, as well as all applicable auditing, monitoring and close out requirements. Reports may be submitted electronically.

b. Additional Reporting

Applicants selected for funding are required to comply with all reporting requirements in the standard terms and conditions for FRA grant awards including 2 CFR 180.335 and 2 CFR 180.350. See an example of standard terms and conditions for FRA grant awards at: https://www.fra.dot.gov/eLib/Details/L19057.

If the Federal share of any Federal award under this NOFO may include more than $500,000 over the period of performance, applicants are informed of the post award reporting requirements reflected in 2 CFR part 200, Appendix XII—Award Term and Condition for Recipient Integrity and Performance Matters.

c. Performance Reporting

As a part of the grant agreement, the grant recipient must provide similar information regarding the route performance, financial, and ridership projections, and capital and business plans that Amtrak is required to provide to FRA, as well as other implementation information that includes the status of the investments and funded operations, the plans for continued operation and funding of routes, and any legislative recommendations.

Grant recipients must also collect information and report on the project's performance using measures established by the FRA to assess progress in achieving strategic goals and objectives. Examples of some rail measures are listed in the below table.

Rail measures | Unit measured | Temporal | Primary strategic goal | Secondary strategic goal | Description
Passenger Counts | Count | Annual | Economic Competitiveness | State of Good Repair | Count of the annual passenger boardings and alightings at stations within the project area.
Travel Time | Time/Trip | Annual | Economic Competitiveness | Quality of Life | Point-to-point travel times between pre-determined station stops within the project area. This measure demonstrates how track improvements and other upgrades improve operations on a rail line. It also helps make sure the railroad is maintaining the line after project completion.

G. Federal Awarding Agency Contacts

For further information regarding this notice, please contact Amy Houser, Office of Program Delivery, Federal Railroad Administration, 1200 New Jersey Avenue SE, Room W36-412, Washington, DC 20590; email: amy.houser@dot.gov. For information about the R&E Grants Program or project specific questions, please contact Ruthie Americus, Office of Policy and Planning, Federal Railroad Administration,1200 New Jersey Avenue SE, Room W36-403, Washington, DC 20590; email: ruthie.americus@dot.gov.

H. Other Information

All information submitted as part of or in support of any application shall use publicly available data or data that can be made public and methodologies that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions.

FRA protects such information from disclosure consistent with applicable law. In the event FRA receives a Freedom of Information Act (FOIA) request for the information, FRA will follow the procedures described in its FOIA regulations at 49 CFR 7.17. Only information that is ultimately determined to be confidential under that procedure will be exempt from disclosure under FOIA.

Issued in Washington, DC.
Quintin C. Kendall,
Deputy Administrator, Federal Railroad Administration.

[FR Doc. 2019-24225 Filed 11-5-19; 8:45 am]

BILLING CODE 4910-06-P